DEPARTMENT OF TRANSPORTATION

Federal Motor Carrier Safety Administration

[Docket No. FMCSA-2006-24674]

National Registry of Certified Medical Examiners

AGENCY: Federal Motor Carrier Safety Administration (FMCSA), DOT.

ACTION: Notice of Public Listening Sessions.

SUMMARY: FMCSA announces two Public Listening Sessions. The Listening Sessions will continue the dialogue on the National Registry of Certified Medical Examiners (NCRME) program for interstate commercial motor vehicle drivers.

DATES: The First NCRME Listening Session will be held from 9 a.m.-12 p.m. on June 29, 2006. The Second NCRME Listening Session will be held from 9 a.m.-12 p.m. on July 26, 2006. (Registration begins at 8 a.m).

ADDRESSES: The first meeting will take place at the Hilton San Diego Airport/Harbor Island, 1960 Harbor Island Drive, San Diego, CA 92101. The second meeting will take place at the Renaissance Grand Hotel, 800 Washington Avenue, St. Louis, MO 63101.

FOR FURTHER INFORMATION CONTACT: Dr. Mary D. Gunnels, Chief, Physical Qualifications Division, 202-366-4001, FMCSA, Department of Transportation, 400 Seventh Street, SW., Washington, DC 20590-0001. Office hours are from 8:30 a.m. to 5 p.m. Monday through Friday, except Federal holidays.

Information on Services for Individuals with Disabilities: For information on facilities or services for individuals with disabilities or to request special assistance at the June and July meetings, contact Ms. Margo Weeks, Axiom Resource Management, Inc., 703-575-8192, ext 266.

SUPPLEMENTARY INFORMATION: Section 4116 of the Safe, Accountable, Flexible, Efficient Transportation Equity Act: A Legacy for Users (SAFETEA-LU, Pub. L. 109-59) requires the Secretary of Transportation “to establish and maintain a current national registry of medical examiners who are qualified to perform examinations and issue medical certificates.” To implement this requirement, the Federal Motor Carrier Safety Administration is developing the National Registry of Certified Medical Examiners (NCRME) program that was announced at a June 22, 2005, public meeting in Arlington, Virginia (70 FR 28596; May 18, 2005). The NRCME program would be comprised, in part, of a training and testing program that would result in a public registry of certified medical examiners who are authorized to conduct medical examinations of interstate commercial motor vehicle drivers and determine their physical qualifications to operate in interstate commerce as defined in 49 CFR 391.41. Once the program is implemented, FMCSA would accept only medical examinations conducted by medical examiners listed on the Registry. The NRCME program would require training using a standardized curriculum, a certification test, and procedures to maintain the quality of the program in accordance with national accreditation standards.

Participation in Public Listening Sessions

We encourage all interested persons to attend, including medical examiners, motor carriers, and drivers. We also encourage other interested parties to attend such as representatives of medical associations, certification and accreditation organizations, medical training organizations, state motor carrier enforcement agencies and safety organizations. View the following Web site for more information: http://www.nrcme.fmcsa.dot.gov.

Issued on: May 12, 2006.
Rose A. McMurray,
Associate Administrator, Policy and Program Development.

[FR Doc. E6-7539 Filed 5-17-06; 8:45 am]

BILLING CODE 4910-EX-P